DEPARTMENT OF ENERGY

Federal Energy Regulatory Commission

[Docket No. RP02-107-000]

National Fuel Gas Supply Corporation; Notice of Proposed Changes in FERC Gas Tariff

December 6, 2001.

Take notice that on November 30, 2001, National Fuel Gas Supply Corporation (National) tendered for filing as part of its FERC Gas Tariff, Fourth Revised Volume No. 1, the following tariff sheets to become effective January 1, 2002:

Eighteenth Revised Sheet No. 8

Forty Fourth Revised Sheet No. 9

Eighth Revised Sheet No. 10

Sixth Revised Sheet No. 11

National asserts that the purpose of this filing is to reflect the year 2002 Gas Research Institute (GRI) unit surcharges approved by the Commission on September 19, 2001, at Docket No. RP01-434-000. The proposed tariff sheets reflect demand/reservation surcharges of 06.6 cents and 04.07 cents per Dth for “high load factor and low load factor” customers respectively, and a commodity/usage surcharge of .55 cents.

In addition, National is making conforming changes related to it's Order 637 proceeding at Docket No. RP00-399. In part, National's August 31, 2001 filing revised the transportation rate schedules to refer to the rate for “Overrun Transportation” instead of “Authorized Overrun Transportation”, effective January 1, 2002. This change was accepted by Commission order dated October 26, 2001. Conforming changes to National's rate sheets are reflected on the attached tariff sheets.

National further states that copies of this filing were served upon National's customers and interested State Commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30690 Filed 12-11-01; 8:45 am]

BILLING CODE 6717-01-P